Proclamation 9748 of May 11, 2018

Peace Officers Memorial Day and Police Week, 2018

By the President of the United States of America

A Proclamation

On Peace Officers Memorial Day and during Police Week, we acknowledge the incredible service and sacrifices law enforcement personnel make each day for their fellow Americans. The brave men and women of our Nation's law enforcement work long hours, often in dangerous situations, to protect our lives, liberty, and property. We also take this opportunity to pay tribute to law enforcement personnel who have been killed or disabled in the line of duty. We will never forget their courage.

In addition to expressing our appreciation for our dedicated law enforcement professionals, we must equip them to carry out the tremendous responsibility of keeping our communities safe. Through the Department of Justice, my Administration will continue to provide our Nation's law enforcement agencies with the resources they need and deserve to keep our citizens safe and our communities secure. This includes providing substantial funding for hiring additional police officers, training for active shooter situations, and improving the safety of our Nation's schools.

My Administration will also continue to advance the National Blue Alert Network, an emergency alert and early warning system that protects America's law enforcement officers and the communities they serve. The Department of Justice and the Federal Communications Commission worked together to establish a dedicated Emergency Alert System event code. This code facilitates rapid dissemination of critical information to law enforcement agencies and the public about violent offenders who have killed, seriously injured, or who pose an imminent and credible threat to law enforcement officers. The exceptional men and women of law enforcement work every day to protect our lives, and this code helps us protect theirs.

The safety and health of our officers must be a priority for all Americans. Every day, members of law enforcement risk their lives in service to those they have pledged to protect and defend. We must not take their devotion to duty for granted, and we must do everything in our power to ensure their physical and mental well-being. Earlier this year, I was pleased to sign into law the Law Enforcement Mental Health and Wellness Act of 2017, which helps provide police officers the resources they need to deal with job stress and trauma associated with their demanding career field.

The work of law enforcement officers is essential to preserving peace in our communities and to ensuring the safety of precious lives and personal property. My Administration proudly salutes the patriots in law enforcement who selflessly serve our Nation. We also solemnly acknowledge our debt to those who have lost their lives in the line of duty. These officers and their families have our prayers and unwavering gratitude.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, DONALD J. TRUMP, President of the United States of America, do hereby proclaim May 15, 2018, as Peace Officers Memorial Day and May 13 through May 19, 2018, as Police Week. In humble appreciation of our hardworking law enforcement officers, Melania and I will light the White House in blue on May 15. I call upon all Americans to observe Peace Officers Memorial Day and Police Week with appropriate ceremonies and activities. I also call on the Governors of the States and Territories and officials of other areas subject to the jurisdiction of the United States, to direct that the flag be flown at half-staff on Peace Officers Memorial Day. I further encourage all Americans to display the flag at half-staff from their homes and businesses on that day.

IN WITNESS WHEREOF, I have hereunto set my hand this eleventh day of May, in the year of our Lord two thousand eighteen, and of the Independence of the United States of America the two hundred and forty-second.

[FR Doc. 2018-10720

Filed 5-16-18; 11:15 am]

Billing code 3295-F8-P